DEPARTMENT OF HOMELAND SECURITY

Coast Guard

[Docket No. USCG-2019-0476]

Notice of Public Meeting in Preparation for the IMO's One Hundred Twenty Second Session of IMO's Council

AGENCY: Coast Guard, DHS.

ACTION: Notice of meeting.

SUMMARY: The United States Coast Guard will conduct an open meeting in Washington, DC in preparation for the upcoming one hundred twenty second session of International Maritime Organization (IMO) Council to be held at the IMO Headquarters, United Kingdom, July 15-19, 2019.

DATES: This meeting will be held on Thursday, July 11, 2019, beginning at 2:00 p.m., Eastern Time. This meeting is open to the public.

ADDRESSES: The public meeting will be held in Room 5L18-01 of the Douglas A. Munro Coast Guard Headquarters Building at St. Elizabeth's, 2703 Martin Luther King, Jr. Avenue SE, Washington, DC 20593. Due to security requirements, each visitor must present two valid, government-issued forms of identification in order to gain entrance to the building. Those desiring to attend the public meeting should contact the Coast Guard ahead of the meeting (see FOR FURTHER INFORMATION CONTACT) to facilitate the security process related to building access, for the teleconference number, or to request reasonable accommodation.

FOR FURTHER INFORMATION CONTACT: For additional information about this public meeting you may contact Lieutenant Commander Staci Weist by telephone at 202-372-1376 or by email at Eustacia.Y.Weist@uscg.mil.

SUPPLEMENTARY INFORMATION: The primary purpose of this meeting is to prepare for the upcoming one hundred twenty second session of IMO Council (C 122). The agenda items for this session include:

• Adoption of the agenda

• Report of the Secretary-General on credentials

• Strategy, planning and reform

• Resource Management

• Results-based budget for 2020-2021

• IMO Member State Audit Scheme

• Consideration of the report of the Facilitation Committee

• Consideration of the report of the Legal Committee

• Consideration of the report of the Marine Environment Protection Committee

• Consideration of the report on the fortieth Consultative Meeting of Contracting Parties to the London Convention 1972 and the thirteenth Meeting of Contracting Parties to the 1996 Protocol to the London Convention

• Consideration of the reports of the Maritime Safety Committee

• Consideration of the report of the Technical Cooperation Committee

• Technical Cooperation Fund

• Protection of vital shipping lanes

• Word Maritime University

• Assembly matters

• External relations

• Report on the status of the Convention and membership of the Organization

• Report on the status of conventions and other multilateral instruments in respect of which the Organization performs functions

• Place, date and duration of the next two sessions of the Council

• Supplementary agenda items, if any

Members of the public may attend this meeting up to the seating capacity of the room, or the capacity of the phone line. To facilitate the building security process, and to request reasonable accommodation, those who plan to attend should contact the meeting coordinator, Lieutenant Commander Staci Weist, not later than July 8, 2019. Requests made after July 8, 2019, may not be able to be accommodated. It is recommended that attendees arrive to Coast Guard Headquarters no later than 30 minutes ahead of the scheduled meeting for the security screening process. Parking in the vicinity of the building is extremely limited. Additional information regarding this and other IMO public meetings may be found at: www.uscg.mil/imo.

Dated: June 12, 2019.
Benjamin J. Hawkins,
Acting Director, Commercial Regulations and Standards, U.S. Coast Guard.

[FR Doc. 2019-12770 Filed 6-14-19; 8:45 am]

BILLING CODE P